DEPARTMENT OF VETERANS AFFAIRS

[OMB Control No. 2900-0556]

Agency Information Collection Activity (Living Will and Durable Power of Attorney for Health Care) Under OMB Review

AGENCY: Department of Veterans Affairs, Veterans Health Administration.

ACTION: Notice.

SUMMARY: In compliance with the Paperwork Reduction Act (PRA) of 1995 (44 U.S.C. 3501-21), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before July 20, 2011.

ADDRESSES: Submit written comments on the collection of information through http://www.Regulations.gov; or to VA's OMB Desk Officer, OMB Human Resources and Housing Branch, New Executive Office Building, Room 10235, Washington, DC 20503 (202) 395-7316. Please refer to “OMB Control No. 2900-0556” in any correspondence.

FOR FURTHER INFORMATION OR A COPY OF THE SUBMISSION CONTACT: Denise McLamb, Enterprise Records Service (005R1B), Department of Veterans Affairs, 810 Vermont Avenue, NW., Washington, DC 20420, (202) 461-7485, Fax (202) 461-0966 or e-mail denise.mclamb@va.gov. Please refer to “OMB Control No. 2900-0556.”

SUPPLEMENTARY INFORMATION Title: Living Will and Durable Power of Attorney for Health Care, VA Form 10-0137.

OMB Control Number: 2900-0556.

Type of Review: Extension of a currently approved collection.

Abstract: Claimants admitted to a VA medical facility complete VA Form 10-0137 to appoint a health care agent to make decision about his or her medical treat and to record specific instructions about their treatment preferences in the event they no longer can express their preferred treatment. VA's health care professionals use the data to carry out the claimant's wish.

An agency may not conduct or sponsor, and a person is not required to respond to a collection of information unless it displays a currently valid OMB control number. The Federal Register Notice with a 60-day comment period soliciting comments on this collection of information was published on April 13, 2011, at pages 20822-20823.

Affected Public: Individuals or Households.

Estimated Total Annual Burden: 171,811 hours.

Estimated Average Burden per Respondent: 30 minutes.

Frequency of Response: One time.

Estimated Number of Respondents: 343,622.

Dated: June 15, 2011.
By direction of the Secretary.
Denise McLamb,
Program Analyst, Enterprise Records Service.

[FR Doc. 2011-15201 Filed 6-17-11; 8:45 am]

BILLING CODE 8320-01-P